DEPARTMENT OF THE INTERIOR

Bureau of Ocean Energy Management

[MMAA 104000]

Gulf of Mexico, Outer Continental Shelf (OCS), Central Planning Area (CPA) Oil and Gas Lease Sales 235, 241, and 247

AGENCY: Bureau of Ocean Energy Management (BOEM), Interior.

ACTION: Notice of Availability (NOA) of a Record of Decision (ROD) for CPA Lease Sale 235 in the Gulf of Mexico OCS Oil and Gas Lease Sales: 2015-2017; Central Planning Area Lease Sales 235, 241, and 247; Final Supplemental Environmental Impact Statement (CPA 235, 241, and 247 Supplemental EIS).

SUMMARY: BOEM has prepared a ROD for proposed oil and gas CPA Lease Sale 235, which is scheduled for March 18, 2015. The proposed lease sale is in the Gulf of Mexico's CPA off the States of Louisiana, Mississippi, and Alabama. Proposed CPA Lease Sale 235 is the third CPA lease sale scheduled in the OCS Oil & Gas Leasing Program for 2012-2017 (Five-Year Program). The CPA 235, 241, and 247 Supplemental EIS evaluated the environmental and socioeconomic impacts for proposed CPA Lease Sale 235. In making its decision, BOEM considered two alternatives to the proposed action, the potential impacts as presented in the CPA 235, 241, and 247 Supplemental EIS, and all comments received throughout the National Environmental Policy Act (NEPA) process.

SUPPLEMENTARY INFORMATION: In the CPA 235, 241, and 247 Supplemental EIS, BOEM evaluated the three alternatives that are summarized below:

Alternative A—The Proposed Action: This is BOEM's preferred alternative. This alternative would offer for lease all unleased blocks within the proposed CPA lease sale area for oil and gas operations with the following exceptions: Whole and partial blocks deferred by the Gulf of Mexico Energy Security Act of 2006; and, blocks that are adjacent to or beyond the United States Exclusive Economic Zone in the area known as the northern portion of the Eastern Gap.

All unleased whole and partial blocks in the CPA that BOEM will offer for leasing in proposed CPA Lease Sale 235 are listed in the document “List of Blocks Available for Leasing,” which is included in the Final Notice of Sale 235 Package. The proposed CPA lease sale area encompasses about 63 million acres of the total CPA area of 66.45 million acres. As of January 2015, approximately 41 million acres of the proposed CPA lease sale area are currently unleased. The estimated amount of resources projected to be developed as a result of the proposed CPA lease sale is 0.460-0.894 billion barrels of oil (BBO) and 1.939-3.903 trillion cubic feet (Tcf) of gas.

Alternative B—Exclude the Unleased Blocks Near the Biologically Sensitive Topographic Features: This alternative would offer for lease all unleased blocks within the proposed CPA lease sale area, as described for the proposed action (Alternative A), but it would exclude from leasing any unleased blocks subject to the Topographic Features Stipulation. The estimated amount of resources projected to be developed under Alternative B is 0.460-0.894 BBO and 1.939-3.903 Tcf of gas. The number of blocks that would not be offered under Alternative B represents only a small percentage of the total number of blocks to be offered under Alternative A; therefore, it is estimated that the levels of activity for Alternative B would be essentially the same as those projected for a CPA proposed action.

Alternative C—No Action: This alternative is the cancellation of proposed CPA Lease Sale 235 and is identified as the environmentally preferred alternative.

After careful consideration, the Assistant Secretary—Land and Minerals Management has selected the proposed action, identified as BOEM's preferred alternative (Alternative A) in the CPA 235, 241, and 247 Supplemental EIS. BOEM's selection of the preferred alternative meets the purpose and need for the proposed action, as identified in the CPA 235, 241, and 247 Supplemental EIS, and reflects an orderly resource development with appropriate protection of the human, marine, and coastal environments while also ensuring that the public receives an equitable return for these resources and that free-market competition is maintained.

Record of Decision Availability: To obtain a single printed or CD copy of the ROD for proposed CPA Lease Sale 235, you may contact BOEM, Gulf of Mexico OCS Region, Public Information Office (GM 335A), 1201 Elmwood Park Boulevard, New Orleans, Louisiana 70123-2394 (1-800-200-GULF). An electronic copy of the ROD is available on BOEM's Internet Web site at http://www.boem.gov/nepaprocess/.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at 504-736-3233.

Authority: This NOA is published pursuant to the regulations (40 CFR part 1503) implementing the provisions of the National Environmental Policy Act (NEPA) of 1969, as amended (42 U.S.C. 4321 et seq.).

Dated: January 22, 2015.
Abigail Ross Hopper,
Director, Bureau of Ocean Energy Management.

[FR Doc. 2015-02272 Filed 2-5-15; 8:45 am]

BILLING CODE 4310-MR-P